DEPARTMENT OF THE TREASURY

Office of Foreign Assets Control

Interpretive Guidance Concerning an Account Entitled “Central Bank of Iraq/Oil Proceeds Receipts Account” at the Federal Reserve Bank of New York

AGENCY: Office of Foreign Assets Control, Treasury.

ACTION: Notice.

SUMMARY: The Treasury Department's Office of Foreign Assets Control (“OFAC”) has determined that an account opened on the books of the Federal Reserve Bank of New York for the purpose of receiving proceeds of Iraqi petroleum contracts is subject to the prohibitions of Executive Order 13303 of May 22, 2003. Accordingly, any attachment, judgment, decree, lien, execution, garnishment, or other judicial process with respect to that account is prohibited and shall be deemed null and void.

DATES: Effective June 19, 2003.

FOR FURTHER INFORMATION CONTACT: Office of Foreign Assets Control, Department of the Treasury, Washington, DC 20220, tel.: 202/622-2500.

SUPPLEMENTARY INFORMATION:

In Executive Order 13303 of May 22, 2003 (the “Order”), the President invoked, inter alia, the International Emergency Economic Powers Act (50 U.S.C. 1701 et seq.) and section 5 of the United Nations Participation Act (22 U.S.C. 287c) to protect the Development Fund for Iraq and certain other property in which Iraq has an interest. Section 1 of the Order provides as follows:

Unless licensed or otherwise authorized pursuant to this order, any attachment, judgment, decree, lien, execution, garnishment, or other judicial process is prohibited, and shall be deemed null and void, with respect to the following:

(a) the Development Fund for Iraq, and

(b) all Iraqi petroleum and petroleum products, and interests therein, and proceeds, obligations, or any financial instruments of any nature whatsoever arising from or related to the sale or marketing thereof, and interests therein, in which any foreign country or a national thereof has any interest, that are in the United States, that hereafter come within the United States, or that are or hereafter come within the possession or control of United States persons.

OFAC's interpretive guidance concerning the scope of the Order follows:

The account entitled “Central Bank of Iraq/Oil Proceeds Receipts Account,” which has been opened on the books of the Federal Reserve Bank of New York for the Central Bank of Iraq for the purpose of receiving proceeds of Iraqi petroleum contracts, is property subject to the prohibitions of Section 1(b) of Executive Order 13303 of May 22, 2003. Accordingly, any attachment, judgment, decree, lien, execution, garnishment, or other judicial process with respect to such account is prohibited and shall be deemed null and void.

Dated: June 20, 2003.
R. Richard Newcomb,
Director, Office of Foreign Assets Control.

Approved: June 23, 2003.
Juan C. Zarate,
Deputy Assistant Secretary (Terrorist Financing and Financial Crimes), Department of the Treasury.

[FR Doc. 03-17059 Filed 7-1-03; 3:05 pm]

BILLING CODE 4810-25-P